DEPARTMENT OF THE INTERIOR

Fish and Wildlife Service

[FWS-HQ-IA-2014-0019; FXIA16710900000-134-FF09A30000]

Advisory Council on Wildlife Trafficking; Meeting

AGENCY: Fish and Wildlife Service, Interior.

ACTION: Notice of meeting.

SUMMARY: We, the U.S. Fish and Wildlife Service (Service), announce a public meeting of the Advisory Council on Wildlife Trafficking (Council). The Council's purpose is to provide expertise and support to the Presidential Task Force on Wildlife Trafficking. You may attend the meeting in person, or you may participate via telephone. At this time, we are inviting submissions of questions and information for consideration during the meeting.

DATES: Meeting: The meeting will be held on Monday, June 9, 2014, from 1 p.m. to 5 p.m. Eastern Time.

Registering to Attend the On-Site Meeting: In order to attend the meeting on site, you must register by close of business on June 2, 2014. (You do not need to register in order to participate via phone.) Please submit your name, email address, and phone number to Mr. Cade London to complete the registration process (see FOR FURTHER INFORMATION CONTACT). Because there is limited seating available, registrations will be taken on a first-come, first-served basis. Members of the public requesting reasonable accommodations, such as hearing interpreters, must contact Mr. London, in writing (preferably by email), no later than May 24, 2014.

Submitting Questions or Information: If you wish to provide us with questions and information to be considered during the meeting, your material must be received or postmarked on or before June 2, 2014. Comments submitted electronically using the Federal eRulemaking Portal (see ADDRESSES section) must be received by 11:59 p.m. Eastern Time on June 2, 2014.

Making An Oral Presentation at the Meeting: If you wish to make an oral presentation at the meeting (in person or by phone), contact Mr. London no later than June 2, 2014 (see FOR FURTHER INFORMATION CONTACT). For more information, see Making An Oral Presentation under SUPPLEMENTARY INFORMATION.

ADDRESSES: Meeting Location: The meeting will be held in the U.S. General Services Administration Building at 1800 F Street NW., Room 1153; Washington, DC 20405.

Meeting Call-In Numbers: Members of the public unable to attend the meeting in person may call in at 888-790-3559 (toll free) or 1-210-234-0087 (toll). Please provide the passcode “TRAFFIC” to the operator.

Submitting Questions or Information: You may submit questions or information for consideration during the meeting by one of the following methods:

1. Electronically: Go to the Federal eRulemaking Portal: http://www.regulations.gov. In the Search box, enter FWS-HQ-IA-2014-0019. Then click on the “Search” button. You may submit questions or information by clicking on “Comment Now!”

2. By hard copy: Submit by U.S. mail or hand-delivery to: Public Comments Processing, Attn: FWS-HQ-IA-2014-0019; Division of Policy and Directives Management; U.S. Fish and Wildlife Service; 4401 N. Fairfax Drive, MS 2042-PDM; Arlington, VA 22203.

We will not accept email or faxes. We request that you send comments only by the methods described above. We will post all comments on http://www.regulations.gov. This generally means that we will post any personal information you provide us (see the Submitting Public Comments section below for more information).

Reviewing Comments Received by the Service: See Reviewing Public Comments in the SUPPLEMENTARY INFORMATION section.

FOR FURTHER INFORMATION CONTACT: Mr. Cade London, Special Assistant, International Affairs, U.S. Fish and Wildlife Service, by email at cade_london@fws.gov (preferable method of contact); by U.S. mail at 4401 North Fairfax Drive, Room 110, Arlington, VA 22203; by telephone at (703) 358-2584; or by fax at (703) 358-2276.

SUPPLEMENTARY INFORMATION: In accordance with the requirements of the Federal Advisory Committee Act (5 U.S.C. App.), we announce that the Advisory Council on Wildlife Trafficking (Council) will hold a meeting to discuss the implementation of the National Strategy for Combating Wildlife Trafficking, and other Council business as appropriate. The Council's purpose is to provide expertise and support to the Presidential Task Force on Wildlife Trafficking.

You may attend the meeting in person, or you may participate via telephone. At this time, we are inviting submissions of questions and information for consideration during the meeting.

Background

Pursuant to Executive Order 13648, the Advisory Council on Wildlife Trafficking was formed on August 30, 2013, to advise the Presidential Task Force on Wildlife Trafficking, through the Secretary of the Interior, on national strategies to combat wildlife trafficking, including but not limited to:

1. Effective support for anti-poaching activities;

2. Coordinating regional law enforcement efforts;

3. Developing and supporting effective legal enforcement mechanisms; and

4. Developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

1. Recommendations for the Presidential Task Force on Wildlife Trafficking, including but not limited to legal frameworks, communication, enforcement, and public/private partnerships;

2. Administrative topics; and

3. Public comment and response.

The final agenda will be posted on the Internet at http://www.fws.gov/international/advisory-council-wildlife-trafficking/, as well as at http://www.regulations.gov.

Making an Oral Presentation

Members of the public who want to make an oral presentation in person or by telephone will be prompted during the public comment section of the meeting to provide their presentation and/or questions. Such presentations may be limited to a total of 30 minutes, to be distributed among all speakers. However, where time permits and if deemed appropriate by the Council Chair and the Designated Federal Official, additional time for public comment may be allotted. If you want to make an oral presentation in person or by phone, contact Mr. Cade London (FOR FURTHER INFORMATION CONTACT) no later than the date given in the DATES section for Making An Oral Presentation at the Meeting.

Registered speakers who wish to expand on their oral statements, or those who wanted to speak but could not be accommodated on the agenda, are invited to submit subsequent written statements to the Council after the meeting. Such written statements must be received by Mr. London, in writing (preferably via email), no later than June 16, 2014.

Submitting Public Comments

You may submit your questions and information by one of the methods listed in ADDRESSES. We request that you send comments only by one of the methods described in ADDRESSES.

If you submit information via the Federal eRulemaking Portal (http://www.regulations.gov), your entire submission—including any personal identifying information—will be posted on the Web site.

If your submission is made via a hardcopy that includes personal identifying information, you may request at the top of your document that we withhold this information from public review. However, we cannot guarantee that we will be able to do so. We will post all hardcopy submissions on http://www.regulations.gov.

Reviewing Public Comments

Comments and materials we receive will be available for public inspection on http://www.regulations.gov. Alternatively, you may view them by appointment during normal business hours at 4401 N. Fairfax Drive, Room 110, Arlington, VA 22203. Please contact Mr. London (see FOR FURTHER INFORMATION CONTACT).

Obtaining Meeting Minutes

Summary minutes of the meeting will be available on the Council Web site at http://www.fws.gov/international/advisory-council-wildlife-trafficking/, as well as at http://www.regulations.gov. Alternatively, you may view them by appointment during normal business hours at 4401 N. Fairfax Drive, Room 110, Arlington, VA 22203. Please contact Mr. London (see FOR FURTHER INFORMATION CONTACT).

Dated: April 30, 2014.
Tina A. Campbell,
Chief, Division of Policy and Directives Management, U.S. Fish and Wildlife Service.

[FR Doc. 2014-10295 Filed 5-5-14; 8:45 am]

BILLING CODE 4310-55-P